DEPARTMENT OF COMMERCE

National Oceanic and Atmospheric Administration

RIN 0648-XR31

Advisory Committee to the U.S. Section of the International Commission for the Conservation of Atlantic Tunas (ICCAT); First Fall Meeting

AGENCY: National Marine Fisheries Service (NMFS), National Oceanic and Atmospheric Administration (NOAA), Commerce.

ACTION: Notice of meeting.

SUMMARY: In preparation for the 2009 International Commission for the Conservation of Atlantic Tunas (ICCAT) meeting, the Advisory Committee to the U.S. Section to ICCAT will convene the first of two fall meetings.

DATES: The meeting will be held September 17-18, 2009. There will be an open session on Thursday, September 17, 2009, from 9 a.m. thru 12:45 p.m. The remainder of the meeting will be closed to the public. Written comments can be presented during the open session. There will be no opportunity for oral public comments during the meeting. Written comments on issues being considered at the meeting should be received no later than September 14, 2009.

ADDRESSES: The meeting will be held at the Hilton Hotel, 8727 Colesville Road, Silver Spring, MD 20910. Written comments should be sent to Melanie King at NOAA Fisheries, Office of International Affairs, Room 12641, 1315 East-West Highway, Silver Spring, MD 20910. Written comments can also be provided via fax (301-713-2313) or email (melanie.king@noaa.gov).

FOR FURTHER INFORMATION CONTACT: Melanie King, 301-713-9090.

SUPPLEMENTARY INFORMATION: The Advisory Committee to the U.S. Section to ICCAT will meet in open session to receive updates on domestic highly migratory fisheries management matters, issues related to the March 2010 meeting of the Convention on the International Trade of Endangered Species, and stock status and other scientific information regarding Atlantic highly migratory species, particularly, albacore, swordfish, sailfish, sharks, tropical tunas, and other species such as seabirds. There will be no opportunity for oral public comment during the open session, although written comments are welcome and may be submitted in person during the open session or in advance by mail, fax, or email. Written comments submitted in advance should be received by September 14, 2009 (see ADDRESSES).

During its first fall meeting, the Advisory Committee will also meet in two executive sessions to discuss sensitive information relating to upcoming international negotiations regarding the conservation and management of Atlantic highly migratory species, including compliance matters and issues related to recreational fishing and strengthening ICCAT. These sessions are closed to the public. The first executive session will be held from 2 p.m. to 8 p.m. on September 17, 2009, and a second executive session will be held from 8:30 pm to 12:30 p.m. on September 18, 2009.

Special Accommodations

The meeting locations are physically accessible to people with disabilities. Requests for sign language interpretation or other auxiliary aids should be directed to Melanie King at (301) 713-9090 by at least 5 days prior to the meeting date.

Dated: August 27, 2009.
Christopher Rogers,
Acting Director, Office of International Affairs, National Marine Fisheries Service.

[FR Doc. E9-21184 Filed 9-1-09; 8:45 am]

BILLING CODE 3510-22-S